DEPARTMENT OF ENERGY

Federal Energy Regulatory Commission

Regional Transmission Organizations; Notice of Meeting

March 20, 2000.

In the matter of: RM99-2-000, ER98-1438-000, EC98-24-000, ER99-3144-000, EC99-80-000, EL00-25-000, ER00-448-000, ER99-3318-000, EL00-39-000, EC00-27-000, EC00-28-000, EC00-26-000, EL00-43-000, EL00-46-000, ER99-2779-000, TX00-2-000, ER98-4410-000, ER99-1659-000, ER99-1660-000, ER99-3914-000, ER99-3916-000, EC99-101-000, ER99-1610-000, ER99-993-000, ER98-2910-000, EL98-74-000, ER98-3709-000, ER95-112-000, ER96-586-000, ER95-1001-000, EL95-17-000, ER95-1615-000, ER96-2709-000, TX97-7-000, ER00-1526-000, ER00-1381-000, ER00-1695-000, ER00-1743-000, ER00-536-000, ER00-1820-000, EC98-40-000, ER98-2770-000, ER98-2786-000, and EL99-57-000; Midwest Independent Transmission System Operator, Inc., The Cincinnati Gas & Electric Company, Commonwealth Edison Company, Commonwealth Edison Company of Indiana, Illinois Power Company, PSI Energy, Inc., Wisconsin Electric Power Company, Union Electric Company, Central Illinois Public Service Company, Louisville Gas & Electric Company, Kentucky Utilities Company, Alliance Companies; American Electric Power Service Corporation, Consumers Energy Company, Detroit Edison Company, FirstEnergy Corporation, Virginia Electric and Power Company, Commonwealth Edison Company, Commonwealth Edison Company of Indiana, Inc., IES Utilities Inc., Interstate Power Company, MidAmerican Energy Company, Midwest Independent Transmission, System Operator, Inc., Mid-Continent Area Power Pool, Southwest Power Pool, Inc., UtiliCorp United Inc. and St. Joseph Light & Power Company, UtiliCorp United Inc. and The Empire District Electric Company, Commonwealth Edison Company and PECO Energy Company, UtiliCorp United Inc. v. City of Harrisonville, Missouri, Entergy Power Marketing Corporation v. Southwest Power Pool, Central Power and Light Company, West Texas Utilities Company, Public Service Company of Oklahoma, Southwestern Electric Power Company, Prairieland Energy, Inc., Entergy Services, Inc., Central Power and Light Company, West Texas Utilities Company, Public Service Company of Oklahoma, Southwestern Electric Power Company, Northern States Power Company, et al. (Minnesota); Cheyenne Light, Fuel and Power Company, et al., Northern States Power Company, et al. (Minnesota), New Century Services, Inc., Mid-Continent Area Power Pool, Entergy Services, Inc., Mid-Continent Area Power Pool, Entergy Services, Inc., Entergy Services, Inc. and Entergy Power, Inc., Entergy Power Marketing Corp., Entergy Services, Inc., Missouri Basin Municipal Power Agency, Reliant Energy Services, Inc., Ameren Services Company, Union Electric Company, d/b/a AmerenUE, Entergy Services, Inc., Southwestern Public Service Company, Commonwealth Edison Company, Commonwealth Edison Company of Indiana, American Electric Power Company and Central and South West Corporation and Entergy Services, Inc.

On December 20, 1999, the Commission issued Order No. 2000 to advance the formation of Regional Transmission Organizations (RTOs). Order No. 2000 announced the initiation of a regional collaborative process to aid in the formation of RTOs. To initiate the collaborative process, the Commission organized a series of regional workshops. These workshops are open to all interested parties. The fourth workshop is scheduled for March 29-30, 2000 in Kansas City, Missouri. During the course of the Kansas City workshop, discussion of the above-listed cases could arise. Any person having an interest in an above-listed case is invited to attend the Kansas City workshop. There will be no Commission transcript of any of the workshops, and information discussion or disseminated in the workshop will not constitute part of the decisional record in the above-listed cases, unless formally, filed in accordance with Commission Regulations.

David P. Boergers,
Secretary.

[FR Doc. 00-7315 Filed 3-23-00; 8:45 am]

BILLING CODE 6717-01-M